DEPARTMENT OF HOMELAND SECURITY

Transportation Security Administration

Aviation Security Advisory Committee (ASAC) Meeting

AGENCY: Transportation Security Administration, DHS.

ACTION: Committee Management; Notice of Closed Federal Advisory Committee Meeting.

SUMMARY: The Aviation Security Advisory Committee (ASAC) will meet in Arlington, VA. This meeting will be closed to the public.

FOR FURTHER INFORMATION CONTACT: Dean Walter, ASAC Designated Federal Officer, Transportation Security Administration (TSA-28), 601 South 12th Street, Arlington, VA 20598-4028, Dean.Walter@dhs.gov, 571-227-2645.

SUPPLEMENTARY INFORMATION:

Meeting Summary

Notice of this meeting is given under section 10(a)(2) of the Federal Advisory Committee Act, 5 U.S.C. App. (Pub. L. 92-463). The Aviation Security Advisory Committee (ASAC) provides advice and makes recommendations to the Secretary of Homeland Security, via the Administrator of TSA, for approving civil aviation security measures.

The ASAC will meet to receive a classified briefing on threat intelligence related to TSA's prohibited items list. The ASAC also will receive a briefing on TSA risk-based initiatives pertaining to passenger prescreening.

Basis for Closure: In accordance with section 10(d) of the Federal Advisory Committee Act, it has been determined that the meeting requires closure. The meeting will be closed to the public in accordance with the provisions set forth under 5 U.S.C. 552b(c)(1), 552b(c)(3), 552b(c)(7)(E)-(F) and 552b(c)(9)(B), as amended.

TSA will be providing a classified (SECRET) briefing to the ASAC on threat intelligence related to TSA's prohibited items list. Specifically, there will be material presented regarding the latest viable threats against U.S. aviation security and how TSA plans to address those threats using a risk-based security framework. Properly classified material is protected from disclosure under 5 U.S.C. 552b(c)(1). Further, providing this information to the public could provide terrorists with a road map regarding TSA and DHS plans to counter their actions, and thus allow them to take different actions to avoid counterterrorism measures. Under 5 U.S.C. 552b(c)(7)(E)-(F), disclosure of this information could reveal investigative techniques and procedures not generally available to the public, allowing those with interests against the United States to circumvent the law, thereby endangering the life or physical safety of law enforcement personnel. Additionally, premature disclosure of this information would be likely to significantly frustrate the successful implementation of measures designed to counter terrorist acts. See, 5 U.S.C. 552b(c)(9)(B).

The ASAC also will receive a briefing on TSA risk-based initiatives pertaining to passenger prescreening, which will include lessons learned from existing screening procedures, enhanced security and improved traveler experience that may be realized by new risk-based initiatives, and screening techniques associated with such initiatives. The briefing will include sensitive security information, as that term is defined under 49 U.S.C. 114 (r) and 49 CFR part 1520. Sensitive security information includes information that would be detrimental to the security of transportation, and may not be disclosed to the general public. Accordingly, this portion of the meeting is closed under 5 U.S.C. 552b(c)(3). Further, premature public disclosure about this initiative would be likely to significantly frustrate implementation of a proposed agency action within the meaning of 5 U.S.C. 552b(c)(9)(B).

Closure of the April 22, 2013, ASAC meeting is warranted under 5 U.S.C. 552b(c)(1), (c)(3), (c)(7)(E)-(F) and (c)(9)(B).

Accordingly, this meeting will be closed to the public.

Issued in Arlington, Virginia, on April 3, 2013.
John P. Sammon,
Assistant Administrator, Security Policy and Industry Engagement.

[FR Doc. 2013-08129 Filed 4-4-13; 8:45 am]

BILLING CODE 9110-05-P